DEPARTMENT OF ENERGY

Federal Energy Regulatory Commission

[Docket No. EL14-95-000]

PJM Interconnection, L.L.C.; Notice of Filing

Take notice that on August 26, 2014, pursuant to section 206 of the Federal Power Act, 16 U.S.C. 824(e) and Part 35 of the Federal Energy Regulatory Commission's (Commission) Regulations, 18 CFR Part 35, PJM Interconnection, L.L.C. (PJM) filed proposed revisions to section 6.4.2 of Schedule 1 of the Amended and Restated Operating Agreement, to revise PJM rules related to offer price adders (FMU adders) for generation units that are frequently offer capped and eliminate the unjust and unreasonable status quo that currently exists in which FMU adders act as windfall revenues for most Market Sellers of Frequently Mitigated Units, as more fully described in the filing.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 16, 2014.

Dated: August 28, 2014.
Nathaniel J. Davis, Sr.,
Deputy Secretary.

[FR Doc. 2014-21096 Filed 9-4-14; 8:45 am]

BILLING CODE 6717-01-P